DEPARTMENT OF COMMERCE

International Trade Administration

Renewable Energy and Energy Efficiency Advisory Committee

AGENCY: International Trade Administration, U.S. Department of Commerce.

ACTION: Notice of an Open Meeting.

SUMMARY: The Renewable Energy and Energy Efficiency Advisory Committee (RE&EEAC) will hold a meeting to deliver 11 recommendations to the Secretary of Commerce and other U.S. agencies' officials regarding the development and administration of programs and policies to enhance the competitiveness of the U.S. renewable energy and energy efficiency industries, including specific challenges associated with exporting. The Committee will also discuss its workplan for the remainder of its 2011-2012 charter.

DATES: September 15, 2011, from 8 a.m. to 3:30 p.m. Eastern Daylight Time (E.D.T.).

ADDRESSES: The meeting will be held at the U.S. Department of Commerce, Room 3407, 1401 Constitution Avenue, NW., Washington, DC 20230.

FOR FURTHER INFORMATION CONTACT: Brian O'Hanlon, Office of Energy and Environmental Technologies Industries (OEEI), International Trade Administration, U.S. Department of Commerce at (202) 482-3492; e-mail: brian.ohanlon@trade.gov. This meeting is physically accessible to people with disabilities. Requests for auxiliary aids should be directed to OEEI at (202) 482-3492.

SUPPLEMENTARY INFORMATION: Background: The Secretary of Commerce established the RE&EEAC pursuant to his discretionary authority and in accordance with the Federal Advisory Committee Act (5 U.S.C. App.) on July 14, 2010. The RE&EEAC provides the Secretary of Commerce with consensus advice from the private sector on the development and administration of programs and policies to enhance the international competitiveness of the U.S. renewable energy and energy efficiency industries. The RE&EEAC held its first meeting on December 7, 2010 and subsequent meetings on March 1, 2011, May 31-June 1, 2011, and August 19, 2011.

The meeting is open to the public and the room is disabled-accessible. Public seating is limited and available on a first-come, first-served basis. Members of the public wishing to attend the meeting must notify Brian O'Hanlon at the contact information above by 5 p.m. E.D.T. on Friday, September 9, in order to pre-register for clearance into the building. Please specify any request for reasonable accommodation at least five business days in advance of the meeting. Last minute requests will be accepted, but may be impossible to fill. A limited amount of time, from 3 p.m. until 3:30 p.m., will be available for pertinent brief oral comments from members of the public attending the meeting.

Any member of the public may submit pertinent written comments concerning the RE&EEAC's affairs at any time before or after the meeting. Comments may be submitted to brian.ohanlon@trade.gov or to the Renewable Energy and Energy Efficiency Advisory Committee, Office of Energy and Environmental Technologies Industries (OEEI), International Trade Administration, Room 3407; 1401 Constitution Avenue, NW., Washington, DC 20230. To be considered during the meeting, comments must be received no later than 5 p.m. E.D.T. on Friday, September 9, 2011, to ensure transmission to the Committee prior to the meeting. Comments received after that date will be distributed to the members but may not be considered at the meeting.

Copies of RE&EEAC meeting minutes will be available within 30 days of the meeting.

Edward A. O'Malley,
Director, Office of Energy and Environmental Industries.

[FR Doc. 2011-22333 Filed 8-31-11; 8:45 am]

BILLING CODE 3510-DR-P